DEPARTMENT OF HOUSING AND URBAN DEVELOPMENT

[Docket No. FR-4903-N-37]

Notice of Submission of Proposed Information Collection to OMB; PHA Development Cost Budget, Cost Statement, Actual Development Cost Certificate

AGENCY: Office of the Chief Information Officer, HUD.

ACTION: Notice.

SUMMARY: The proposed information collection requirement described below has been submitted to the Office of Management and Budget (OMB) for review, as required by the Paperwork Reduction Act. The Department is soliciting public comments on the subject proposal.

HUD is requesting extension of OMB approval to collect information from Public Housing Agencies (PHAs) c Public Housing Agencies (PHAS) documenting budgets and costs for the development of low-income housing and for the costs of acquisition and relocation.

DATES: Comments Due Date: July 6, 2004.

ADDRESSES: Interested persons are invited to submit comments regarding this proposal. Comments should refer to the proposal by name and/or OMB approval Number (2577-0036) and should be sent to: HUD Desk Officer, Office of Management and Budget, New Executive Office Building, Washington, DC 20503; fax: 202-395-6974.

FOR FURTHER INFORMATION CONTACT: Wayne Eddins, Reports Management Officer, AYO, Department of Housing and Urban Development, 451 Seventh Street, SW., Washington, DC 20410; e-mail Wayne_Eddins@HUD.gov; telephone (202) 708-2374. This is not a toll-free number. Copies of available documents submitted to OMB may be obtained from Mr. Eddins and at HUD's Web site at http://www5.hud.gov:63001/po/i/icbts/collectionsearch.cfm.

SUPPLEMENTARY INFORMATION: This Notice informs the public that the U.S. Department of Housing and Urban Development (HUD) has submitted to OMB, for emergency processing, a survey instrument to obtain information from faith based and community organizations on their likelihood and success at applying for various funding programs. This Notice is soliciting comments from members of the public and affecting agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques or other forms of information technology, e.g., permitting electronic submission of responses.

This Notice also lists the following information:

Title of Proposal: PHA Development Cost Budget, Cost Statement, Actual Development Cost Certificate.

OMB Approval Number: 2577-0036.

Form Numbers: HUD-52427, HUD-52484.

Description of the Need for the Information and Its Proposed Use: HUD requires information on the Cost Budget/Statement to determine whether PHA expenditures or requests for funds are reasonable in relation to the stage of development. PHAs submit the Actual Development Cost Certificate to notify HUD that all development work has been completed, and to report the amount for all costs relating to development. Acquisition and relocation reports enable HUD to determine PHA compliance with acquisition and relocation requirements.

Frequency of Submission: Quarterly.

| Number of respondents | Annual responses | × | Hours per response | = | Burden hours
Reporting Burden | 620 | 1,852 |  | 4.8 |  | 8,905

Total Estimated Burden Hours: 8,905.

Status: Request for extension of an existing information collection.

Authority: Section 3507 of the Paperwork Reduction Act of 1995, 44 U.S.C. 35, as amended.

Dated: May 27, 2004.
Wayne Eddins,
Departmental PRA Compliance Officer, Office of the Chief Information Officer.

[FR Doc. 04-12496 Filed 6-2-04; 8:45 am]

BILLING CODE 4210-72-P